DEPARTMENT OF COMMERCE

Bureau of Industry and Security

Transportation and Related Equipment Technical Advisory Committee; Notice of Open Meeting

The Transportation and Related Equipment Technical Advisory Committee will meet on May 3, 2006, 9:30 a.m., in the Herbert C. Hoover Building, Room 6087B, 14th Street between Pennsylvania & Constitution Avenues, NW., Washington, DC. The Committee advises the Office of the Assistant Secretary for Export Administration with respect to technical questions that affect the level of export controls applicable to transportation and related equipment or technology.

Agenda:

1. Welcome and Introductions.

2. Regulatory Overview.

3. Policy Overview.

4. Missile Technology Control Regime.

5. Report on the Wassenaar Experts Group Meeting.

6. Jurisdiction Technical Working Group Report.

7. Proposal by Boeing for a New Working Group Focused on Composite Materials.

8. Presentation of Papers and Comments by the Public.

9. Follow-up on Open Action Items.

The meeting willl be open to the public and a limited number of seats wil be available. Reservations are not accepted. To the extent time permits, members of the public may present oral statements to the Committee. Written statements may be submitted at any time before or after the meeting. However, to facilitate distribution of public presentation materials to Committee members, the Committee suggests that presenters forward the public presentation materails to Yvette Springer at Yspringer@bis.doc.gov

For more information contact Ms. Springer on (202) 482-4814.

Dated: April 17, 2006.
Yvette Springer,
Committee Liaison Officer.

[FR Doc. 06-3832 Filed 4-27-06; 8:45 am]

BILLING CODE 3510-JT-M